INTERNATIONAL TRADE COMMISSION

[Investigation No. 337-TA-1283]

Certain Composite Baseball and Softball Bats and Components Thereof; Notice of Correction Concerning Commission Issuance of a Limited Exclusion Order and a Cease and Desist Order Against a Defaulting Respondent; Termination of Investigation

AGENCY: U.S. International Trade Commission.

ACTION: Notice.

SUMMARY: Correction is made to notice 87 FR 66746-47 which was published on Friday, November 4, 2022, to clarify that the Commission voted to approve the determination on October 31, 2022, and not November 1, 2022. The Commission vote date is hereby corrected in the notice of termination.

Issued: November 22, 2022.
Katherine Hiner,
Acting Secretary to the Commission.

[FR Doc. 2022-25931 Filed 11-28-22; 8:45 am]

BILLING CODE 7020-02-P